BROADCASTING BOARD OF GOVERNORS

Sunshine Act Meeting Notice

TIME AND DATE: Thursday, March 12, 2020, 10:30 a.m. EDT.

PLACE: Cohen Building, Room 3321, 330 Independence Ave. SW, Washington, DC 20237.

MATTERS TO BE CONSIDERED: The U.S. Agency for Global Media's (USAGM) Board of Governors (Board) will be meeting at the time and location listed above. The Board will vote on a consent agenda consisting of the minutes of its November 14, 2019 meeting, a resolution honoring the 70th anniversary of Voice of America's (VOA) Ukrainian Service, a resolution honoring the 60th anniversary of VOA's French Service, a resolution honoring the 35th anniversary of Office of Cuba Broadcasting's Radio Marti, and a resolution honoring the 10th anniversary of Radio Free Europe/Radio Liberty's Pashto Language Service for the Pakistan-Afghanistan Border Region—Radio Mashaal. The Board will receive a report from the USAGM's Chief Executive Officer and Director.

This meeting will be available for public observation via streamed webcast, both live and on-demand, on the agency's public website at www.usagm.gov. Information regarding this meeting, including any updates or adjustments to its starting time, can also be found on the agency's public website.

The public may also attend this meeting in person at the address listed above as seating capacity permits. Members of the public seeking to attend the meeting in person must register at https://usagmboardmeetingmarch2020.eventbrite.com by 12:00 p.m. (EDT) on March 11. For more information, please contact USAGM Public Affairs at (202) 203-4400 or by email at publicaffairs@usagm.gov.

CONTACT PERSON FOR MORE INFORMATION: Persons interested in obtaining more information should contact Oanh Tran at (202) 203-4545.

Oanh Tran,
Executive Director.

[FR Doc. 2020-04849 Filed 3-10-20; 11:15 am]

BILLING CODE 8610-01-P